DEPARTMENT OF THE INTERIOR

Bureau of Land Management

[LLCA9300000 L13400000.DS0000]

Notice of Amendment to the Notice of Intent To Prepare an Environmental Impact Statement for the Proposed Desert Renewable Energy Conservation Plan, Including Kern, Los Angeles, San Bernardino, Inyo, Riverside, Imperial, and San Diego Counties; and Possible Land Use Plan Amendments

AGENCY: Bureau of Land Management, Interior.

ACTION: Notice of intent.

SUMMARY: In compliance with the National Environmental Policy Act of 1969 (NEPA), as amended, and the Federal Land Policy and Management Act of 1976 (FLPMA), as amended, the Bureau of Land Management (BLM) Central California District, Sacramento, California and California Desert District, Moreno Valley, California intend to prepare an Environmental Impact Statement (EIS) which may include amendments to the California Desert Conservation Area (CDCA) Plan, Bishop Resource Management Plan (RMP), Caliente/Bakersfield RMP, and Eastern San Diego County RMP for the areas that are within the planning boundary of the proposed Desert Renewable Energy Conservation Plan (DRECP). These potential plan amendments will be analyzed in the DRECP Draft EIS and CDCA Plan Amendment (PA), as noticed in the Federal Register on November 20, 2009 (74 FR 60291) and August 29, 2011 (76 FR 45606). By this notice, the BLM is announcing the beginning of the scoping process to solicit public comments and identify issues related to the proposed RMP amendments.

DATES: This notice initiates the public scoping process for the EIS and possible RMP amendments. Comments on issues may be submitted in writing until May 4, 2012. In order to be included in the Draft EIS/PA, all comments must be received prior to the close of the scoping period. We will provide additional opportunities for public participation upon publication of the Draft EIS/PA.

ADDRESSES: You may submit comments in writing on issues and planning criteria related to the Bishop, Caliente/Bakersfield, or Eastern San Diego plan amendments as addressed in the DRECP Draft EIS/PA by any of the following methods:

• Web site: http://www.blm.gov/ca/st/en/fo/cdd.html.

• Email: DRECP@blm.gov or docket@energy.state.ca.us (include “Docket No. 09-RENEW EO-01/Scoping” in the subject line).

• Fax: (916) 978-4657 or (916) 654-4421 (Attn: Kristy Chew).

• Mail: ATTN: Vicki Campbell, DRECP Program Manager, BLM California State Office, 2800 Cottage Way, Suite W-1623, Sacramento, California 95825, or California Energy Commission, Dockets Office, MS-4, Docket No. 09-RENEW E0-01, Scoping Comments, 1516 Ninth St., Sacramento California 95814-5512.

Documents pertinent to this proposal may be examined at the BLM California State Office (see ADDRESSES above); BLM California Desert District office, 22835 Calle San Juan de Los Lagos, Moreno Valley, California 92553-9046; BLM Bakersfield Field Office, 3801 Pegasus Drive, Bakersfield, California 93308; or the BLM Bishop Field Office, 351 Pacu Lane, Suite 100, Bishop, California 93514.

FOR FURTHER INFORMATION CONTACT: For further information and/or to have your name added to our mailing list, contact Vicki Campbell, DRECP Program Manager, telephone (916) 978-4320; address BLM California State Office, 2800 Cottage Way, Suite W-1623, Sacramento, California 95825; email DRECP@blm.gov. Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: The BLM, along with the California Department of Fish and Game, the California Energy Commission, and the U.S. Fish and Wildlife Service propose to amend the CDCA Plan, Bishop RMP, Caliente/Bakersfield RMP, and Eastern San Diego RMP within the DRECP planning area. The DRECP will advance State and Federal conservation goals in the desert regions of California while also facilitating the timely permitting of renewable energy projects under applicable State and Federal laws, and is intended to complement the Solar Programmatic EIS, which is currently under environmental review as well. Thus far, the agencies have identified the need to: provide conservation and management of identified species in the planning area, along with the natural communities and ecosystems that support these species, build on the Competitive Renewable Energy Zones identified by the State's Renewable Energy Transmission Initiative, while identifying the most appropriate locations in the planning area for development of utility scale renewable energy projects that will not burden existing resources, standardize mitigation and compensation requirements for energy activities in the planning area, and to streamline the permitting process of energy projects that results in greater conservation values than current methods.

The purpose of the public scoping process is to determine relevant issues that will influence the scope of the environmental analysis, including alternatives for the RMP areas and to guide the process for developing the Draft EIS/PA. The BLM has identified the following preliminary issues: special status species, mitigation measures for special status species, vegetation communities, cultural resources, special area designations, and areas of high potential for renewable energy development. These issues along with interagency guidance and cooperation have helped frame preliminary planning criteria, which will work to define the scope of the planning area. These criteria include:

• The plan amendments will be completed in compliance with FLPMA, NEPA, and all other relevant Federal law, implementing regulations, Executive Orders, Secretarial Orders, and management policies of the Department of Interior and the BLM.

• The plan amendment will recognize BLM's responsibility to manage for multiple use and sustained yield throughout the planning area.

• Although the plan amendments will only apply to BLM-managed lands, the BLM will develop and analyze in its range of alternatives, potential land use plan decisions that address a larger, landscape context, which will include considerations of private lands.

• The California Desert Conservation Area Plan Amendment will recognize the unique values and resources in the California Desert, as found by Congress in Sec. 601 of FLPMA.

• The plan amendments will be consistent with the California Natural Communities Conservation Planning Act, to the extent that the decisions reached in the NCCP are consistent with Federal law, regulation, and BLM policies regarding management of public lands.

• The plan amendment will comply with the Memorandums of Understanding between the Department of the Interior (including those agreements signed by BLM-CA) and the State of California (including those agreements signed by state agencies and commissions) and the DRECP Planning Agreement, to the extent that the direction in those documents is consistent with Federal law, regulation, and BLM policies regarding the management public lands.

• Native American Tribal consultation will be conducted in accordance with Federal law, regulation, and policy, and Tribal concerns will be given due consideration.

• Plan amendment decisions will strive to be compatible with the existing plans and policies of adjacent local, state, tribal, and federal agencies, or with changes to those policies and plans contemplated as part of the DRECP, as long as the decisions are in conformance with Federal law, regulation, and BLM policies on management of public lands.

Authorization of this proposal will require amendments of the CDCA Plan, Bishop RMP, Caliente/Bakersfield RMP, and Eastern San Diego RMP. By this notice, the BLM is complying with requirements in 43 CFR 1610.2(c) to notify the public of potential amendments to land use plans predicated on the findings of the environmental review process. The BLM is integrating the land use plan amendment process with the NEPA process for this project.

The BLM will use and coordinate the NEPA commenting process to help fulfill the public involvement process under Section 106 of the National Historic Preservation Act (16 U.S.C. 470(f)) as provided for in 36 CFR 800.2(d)(3). Native American Tribal consultations will be conducted in accordance with policy, and Tribal concerns will be given due consideration, including potential impacts on Indian trust assets. Federal, state, and local agencies, along with tribes and other stakeholders that may be interested or affected by the BLM's decision on this project are invited to participate in the scoping process and, if eligible, may request or be requested by the BLM to participate as a cooperating agency. Before including your address, phone number, email address, or other personal identifying information in your comment, you should be aware that your entire comment—including your personal identifying information—may be made publicly available at any time. While you can ask us in your comment to withhold your personal identifying information from public review, we cannot guarantee that we will be able to do so.

The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft RMP/Draft EIS as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: rangeland management, minerals and geology, outdoor recreation, paleontology, archaeology, wildlife, lands and realty, hydrology, soils, sociology and economics.

Authority: 40 CFR 1501.7 and 43 CFR 1610.2.

Thomas Pogacnik,
Deputy State Director.

[FR Doc. 2012-8101 Filed 4-3-12; 8:45 am]

BILLING CODE 4310-40-P